DEPARTMENT OF COMMERCE

International Trade Administration

[A-570-831]

Fresh Garlic From the People's Republic of China: Affirmative Final Determination of Circumvention of the Antidumping Duty Order

AGENCY: Enforcement and Compliance, International Trade Administration, Department of Commerce.

SUMMARY: The U.S. Department of Commerce (Commerce) determines that small and large garlic chunks produced in the People's Republic of China (China) and exported to the United States constitute merchandise altered in form or appearance in such minor respects that they should be included within the scope of the antidumping duty (AD) order on fresh garlic from China. As a result, small and large garlic chunks will be subject to suspension of liquidation effective June 8, 2023.

DATES: Applicable June 18, 2024.

FOR FURTHER INFORMATION CONTACT: Thomas Cloyd, AD/CVD Operations, Office VII, Enforcement and Compliance, International Trade Administration, U.S. Department of Commerce, 1401 Constitution Avenue NW, Washington, DC 20230; telephone: (202) 482-1246.

SUPPLEMENTARY INFORMATION:

Background

On November 14, 2023, Commerce published the Preliminary Determination of the circumvention inquiry of the AD order on fresh garlic from China, in which Commerce determined that imports of small and large garlic chunks from China are circumventing the Order.¹ We invited parties to comment on the Preliminary Determination and received timely filed comments and rebuttal comments from interested parties.² On April 2, 2024, Commerce extended the deadline for the final determination until June 7, 2024.³

¹ See Antidumping Duty Order: Fresh Garlic from the People's Republic of China, 59 FR 59209 (November 16, 1994) (Order); see also Fresh Garlic from the People's Republic of China: Preliminary Affirmative Determination of Circumvention, 88 FR 77959 (November 14, 2023) (Preliminary Determination), and accompanying Preliminary Decision Memorandum (PDM).

² See Green Garden Produce, LLC's Letter, “Green Garden Produce, LLC's Comments on Commerce's Preliminary Affirmative Determination of the Circumvention for Small and Large Garlic Chunks,” dated December 5, 2023; see also the Fresh Garlic Producers Association and its individual members' Letter, “Petitioners' Rebuttal to Green Garden's Comments on Preliminary Affirmative Determination of Circumvention,” dated December 19, 2023; see also I Love Produce, LLC's Letter, “Rebuttal Comments to Green Garden's Comments on DOC's Preliminary Affirmative Circumvention Determination,” dated December 19, 2023.

³ See Memorandum, “Extension of Deadline for Final Results of Circumvention Inquiry,” dated April 2, 2024.

For a complete description of events that followed the Preliminary Determination, as well as a full discussion of the issues raised by parties for consideration in the final determination, see the Issues and Decision Memorandum.⁴ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁴ See Memorandum, “Issues and Decision Memorandum for the Final Affirmative Circumvention Determination of the Antidumping Duty Order on Fresh Garlic from the People's Republic of China,” dated concurrently with, and hereby adopted by, this notice (Issues and Decision Memorandum).

Scope of the Order

The merchandise covered by the Order is fresh garlic from China. The subject garlic is currently classifiable under subheadings 0703.20.0005, 0703.20.0010, 0703.20.0015, 0703.20.0020, 0703.20.0000, 0703.20.0090, 0710.80.7060, 0710.80.97500, 0711.90.6000, 0711.90.6500, 2005.90.9500, 2005.90.9700, and 2005.99.9700 of the Harmonized Tariff Schedule of the United States (HTSUS). Although the HTSUS subheadings are provided for convenience and customs purposes, our written description of the scope of the Order is dispositive. For a complete description of the scope of the Order, see the Issues and Decision Memorandum.

Merchandise Subject to the Circumvention Inquiry

This circumvention inquiry covers small and large garlic chunks produced in China and exported to the United States. A complete description of the merchandise subject to the circumvention inquiry is contained in the Issues and Decision Memorandum.

Methodology

Commerce is conducting this circumvention inquiry pursuant to section 781(c) of the Tariff Act of 1930, as amended (the Act) and 19 CFR 351.226(j). For a complete description of the methodology underlying the final determination, see the Issues and Decision Memorandum. A list of topics discussed in the Issues and Decision Memorandum is attached as an appendix to this notice.

Changes Since the Preliminary Determination

All issues raised in the case and rebuttal briefs by parties in these inquiries are addressed in the Issues and Decision Memorandum. Based on our analysis of the comments received from interested parties, we made no change to the Preliminary Determination.

Final Circumvention Determination

As detailed in the Issues and Decision Memorandum, we determine that small and large garlic chunks produced in China and exported to the United States constitute merchandise altered in form or appearance in such minor respects that they should be included within the scope of the Order, pursuant to section 781(c) of the Act and 19 CFR 351.226(j). We also determine that this affirmative circumvention finding should be applied on a country-wide basis. For a detailed explanation of our determinations with respect to small and large garlic chunks, see the Preliminary Determination PDM and the Issues and Decision Memorandum.

Suspension of Liquidation and Cash Deposit Requirements

In accordance with 19 CFR 351.226(l)(3), based on this affirmative final determination, Commerce will direct U.S. Customs and Border Protection (CBP) to continue the suspension of liquidation of previously suspended entries and to suspend liquidation and require a cash deposit of estimated duties on unliquidated entries of small and large garlic chunks produced in and exported from China that are entered, or withdrawn from warehouse, for consumption on or after June 8, 2023 (i.e., the date of the publication of the Initiation Notice ⁵). Pursuant to 19 CFR 351.226(l)(3), we will also instruct CBP to require AD cash deposit rates in effect for fresh garlic for each unliquidated entry of small and large garlic chunks produced in and exported from China that have been entered, or withdrawn from warehouse, for consumption on or after June 8, 2023 (i.e., the date of the initiation of this inquiry).⁶ The suspension of liquidation instructions and cash deposit requirements will remain in effect until further notice.

⁵ See Fresh Garlic from the People's Republic of China: Initiation of Circumvention Inquiry on the Antidumping Duty Order, 88 FR 37510 (June 8, 2023) (Initiation Notice).

⁶ See Order.

Opportunity To Request an Administrative Review

Each year during the anniversary month of the publication of an AD or countervailing duty (CVD) order, finding, or suspended investigation, an interested party, as defined in section 771(9) of the Act, may request, in accordance with 19 CFR 351.213, that Commerce conduct an administrative review of that AD or CVD order, finding, or suspended investigation. An interested party who would like Commerce to conduct an administrative review should wait until Commerce announces via the Federal Register the next opportunity during the anniversary month of the publication of the Order to submit such requests. The anniversary month for this Order is November.

Administrative Protective Order

This notice will serve as the only reminder to all parties subject to an administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

This determination is issued and published in accordance with section 781(c) of the Act and 19 CFR 351.226(g)(2).

Dated: June 7, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. Merchandise Subject to the Circumvention Inquiry

V. Period of the Circumvention Inquiry

VI. Discussion of the Issues

Comment 1: Whether the Inquiry Merchandise Is Excluded from the Order Due to Preservation by the Addition of Other Ingredients

Comment 2: Whether the Inquiry Merchandise Is Excluded from the Order by being “Further Processed”

Comment 3: Whether the Inquiry Merchandise Has Undergone Minor Alteration

VII. Recommendation

[FR Doc. 2024-13378 Filed 6-17-24; 8:45 am]

BILLING CODE 3510-DS-P